DEPARTMENT OF EDUCATION

[CFDA 84.235M]

Proposed Priority; Special Demonstration Programs—National Technical Assistance Projects To Improve Employment Outcomes for Individuals With Disabilities

AGENCY: Office of Special Education and Rehabilitative Services, Department of Education.

ACTION: Notice of proposed priority.

SUMMARY: The Assistant Secretary for the Office of Special Education and Rehabilitative Services proposes a priority under the Special Demonstration Programs authorized under 303(b) of the Rehabilitation Act of 1973, as amended (the Rehabilitation Act). The Assistant Secretary may use this priority for competitions in fiscal year (FY) 2011 and later years. We take this action to focus technical assistance (TA) on areas of national need identified by the Rehabilitation Services Administration (RSA) through analyses of information obtained during monitoring and oversight of its grant programs. We also intend the priority to increase the transfer, utilization, and dissemination of information on promising practices and knowledge from research on topics in the field of rehabilitation that have national significance and improve the performance of State vocational rehabilitation (VR) agencies.

DATES: We must receive your comments on or before July 20, 2011.

ADDRESSES: Address all comments about this notice to Thomas Finch, U.S. Department of Education, 400 Maryland Avenue, SW., room 5147, Potomac Center Plaza (PCP), Washington, DC 20202-2800.

If you prefer to send your comments by e-mail, use the following address: tom.finch@ed.gov. You must include the term “National Technical Assistance” in the subject line of your electronic message.

FOR FURTHER INFORMATION CONTACT: Thomas Finch. Telephone: (202) 245-7343 or by e-mail: tom.finch@ed.gov.

If you use a telecommunications device for the deaf (TDD), call the Federal Relay Service (FRS), toll free, at 1-800-877-8339.

SUPPLEMENTARY INFORMATION: Invitation to Comment: We invite you to submit comments regarding this notice.

We invite you to assist us in complying with the specific requirements of Executive Order 12866 and its overall requirement of reducing regulatory burden that might result from this proposed priority. Please let us know of any further ways we could reduce potential costs or increase potential benefits while preserving the effective and efficient administration of the program.

During and after the comment period, you may inspect all public comments about this notice in room 5147, PCP, 550 12th Street, SW., Washington, DC, between the hours of 8:30 a.m. and 4:00 p.m., Washington, DC time, Monday through Friday of each week except Federal holidays.

Assistance to Individuals With Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of this program is to expand and improve the provision of rehabilitation and other services authorized under the Rehabilitation Act, or to support activities that increase the provision, extent, availability, scope, and quality of rehabilitation services provided under the Rehabilitation Act.

Program Authority: 29 U.S.C. 773(b).

Proposed Priority

National Technical Assistance

Background

Recent program monitoring and assessments by RSA have demonstrated that State VR agencies and their partners, need national TA opportunities to improve program management and to keep informed about current effective and promising practices and research in the field of VR and the employment of individuals with disabilities, including information on the implementation and replication of such practices. Examples of areas of need that RSA has identified through its program monitoring activities include, but are not limited to: Fiscal compliance; State agency management and planning; quality assurance; and strategies for effective service delivery to underserved populations, such as individuals who are deaf or hard of hearing or who are transition-aged youths.

Other areas that have been identified for TA include, but are not limited to: Effective practices that may affect the employment of individuals with disabilities and implementation and administration of programs operated under the Randolph-Sheppard Act.

The Department currently supports ten regional Technical Assistance and Continuing Education (TACE) centers that provide TA and continuing education to State VR agencies and other entities that partner with State VR agencies. The purpose of the TACE centers is to contribute to the following outcomes: Improved quality of VR services; increased effectiveness and efficiency of State VR agencies in delivering VR services; upgrading the skills of existing VR personnel; and, improved quantity and quality of VR employment outcomes for individuals with disabilities.

Through this priority, the Department seeks to supplement the TA provided by the TACE centers by supporting cost-effective and efficient mechanisms for delivering TA at the national level, where appropriate. In addition to national conferences, the use of alternative delivery methods such as webinars are encouraged in providing TA on discrete topics that can be addressed adequately in a one- to two-hour period. RSA frequently conducts webinars to meet the TA needs of State VR agencies, their partners, and other RSA grantees and has received positive evaluations by participants.

This priority would also support the sharing of useful TA products and materials developed for a broad, national audience that can facilitate knowledge transfer, utilization, and dissemination of promising practices and knowledge in VR and the employment of individuals with disabilities. These TA products and materials would be made readily available to State VR agencies and other RSA grantees, including the TACE centers, and to RSA staff. RSA and the TACE centers would use these products and materials as they work with State VR agencies, VR agency partners, and other RSA grantees.

Proposed Priority

The Assistant Secretary for Special Education and Rehabilitative Services proposes a priority to support a grant under the Special Demonstration Programs to fund a project to provide national technical assistance (TA) to State VR agencies and other entities that carry out VR-related programs administered by RSA to increase the transfer, utilization, and dissemination of current promising practices and knowledge in VR and the employment of individuals with disabilities. The Department intends to award this grant as a cooperative agreement to ensure that there is substantial involvement (i.e., significant communication and collaboration) between RSA and the grantee in carrying out the activities of the grant. (34 CFR 75.200(b)(4)).

In coordination with the Department, the grantee must—

(a) Consult with RSA staff and staff from the TACE centers to identify issues that may affect State VR agency service delivery, as well as TA needs that are most appropriately addressed on a national basis;

(b) Develop a proposed two-year plan for delivering national TA to VR professionals through conferences, webinars, or other mechanisms, based on the activities conducted under paragraph (a) of this priority. The proposed two-year plan must be developed and approved by RSA within the first three months of the project period and include a schedule for delivering high priority TA activities, recommended methods of delivery, and the estimated costs of providing such TA;

(c) Organize and provide national TA in accordance with the two-year plan approved by RSA, including overseeing all activities related to preparing for and conducting national TA. These activities include, but are not limited to, the following: Determining the target audience for the TA; organizing conferences, webinars, and other national TA; identifying presenters; arranging for reasonable accommodations for individuals with disabilities; making logistical arrangements for the national TA; providing travel reimbursement and stipends, where appropriate, to State VR personnel; provide for continuing education credits; and conducting evaluations of the national TA that has been provided;

(d) Organize and archive all TA products and materials for use by RSA, the TACE centers, and other TA providers, as needed; and

(e) Develop and maintain a Web site to make available the products and materials that are developed and/or used in providing TA conducted under this priority so that they can be accessed and used by RSA, the TACE centers, and other RSA grantees. The Web site must be capable of supporting other features including, but not limited to, conference and webinar registration, a calendar of events, and links to other related Web sites and resources; and

(f) Collaborate with other RSA-funded TA providers, including, but not limited to, the TACE Centers, the American Indian Vocational Rehabilitation Technical Assistance Center, and the Independent Living Training and Technical Assistance Center, in the provision and support of TA activities.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priority justify the costs.

Discussion of Costs and Benefits

The benefits of the provision of TA are well-established. TA targeted to the specific needs of grantees helps them to improve their performance and to achieve their objectives. Specifically, the provision of cost effective TA to State VR agencies in areas of national need should result in higher quality employment outcomes for the individuals with disabilities whom these agencies serve.

Intergovernmental Review: This program is subject to Executive Order 12372 and the regulations in 34 CFR Part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or computer diskette) on request to the program contact person listed under FOR FURTHER INFORMATION CONTACT.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: June 15, 2011.
Alexa Posny,
Assistant Secretary for Special Education and Rehabilitative Services.

[FR Doc. 2011-15293 Filed 6-17-11; 8:45 am]

BILLING CODE 4000-01-P